DEPARTMENT OF HEALTH AND HUMAN SERVICES

Administration on Aging

Agency Information Collection Activities; Proposed Collection; Comment Request; Annual Reporting Requirements for the Older American Act Title VI Grant Program

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written or electronic comments on the collection of information by August 10, 2015.

ADDRESSES: Submit electronic comments on the collection of information by fax to (202) 395-5806 or by email to OIRA_submission@omb.eop.gov, Attn: OMB Desk Officer for ACL.

FOR FURTHER INFORMATION CONTACT: Cecelia Aldridge at (202) 357-3422 or Cynthia.LaCounte@aoa.hhs.gov.

SUPPLEMENTARY INFORMATION: In compliance with 44 U.S.C 3507, AoA has submitted the following proposed collection of information to OMB for review and clearance.

AoA estimates the burden of this collection of information as follows: Annual submission of the Program Performance Reports are due 90 days after the end of the budget period and final project period. The current form and instructions are posted on the AoA Web site at http://www.aoa.gov/AoARoot/Grants/Reporting_Requirements\insex.aspx.

Respondents: Federally Recognized Tribes, Tribal and Native Hawaiian Organizations receiving grants under Title VI, Part A, Grants for Native Americans; Title VI, Part B, Native Hawaiian Program and Title VI, Part C, Native American Caregiver Support Program. Estimated Number of Responses: 266. Total Estimated Burden Hours: 731.5.

Dated: July 2, 2015.
Kathy Greenlee,
Administrator and Assistant Secretary for Aging.

[FR Doc. 2015-16755 Filed 7-8-15; 8:45 am]

BILLING CODE 4154-01-P